DEPARTMENT OF TRANSPORTATION

Office of the Secretary

Notice of Applications for Certificates of Public Convenience and Necessity and Foreign Air Carrier Permits Filed Under Subpart B (Formerly Subpart Q) During the Week Ending June 25, 2004

The following Applications for Certificates of Public Convenience and Necessity and Foreign Air Carrier Permits were filed under Subpart B (formerly Subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-18481.

Date Filed: June 22, 2004.

Due Date for Answers, Conforming Applications, or Motion to Modify Scope: July 13, 2004.

Description: Application of Domodedovo Airlines, requesting a foreign air carrier permit to engage in non-scheduled passenger and combination charter service between the Russian Federation and the U.S.

Docket Number: OST-2003-14296.

Date Filed: June 23, 2004.

Due Date for Answers, Conforming Applications, or Motion to Modify Scope: July 14, 2004.

Description: Application of Cayman Airways Limited, requesting to revise its previously filed application for amendment of its foreign air carrier permit to authorize CAL to serve Miami and Houston and five additional points selected by the U.K. government and notified to the U.S.

Maria Gulczewski,
Supervisory Dockets Officer, Alternate Federal Register Liaison.

[FR Doc. 04-15641 Filed 7-8-04; 8:45 am]

BILLING CODE 4910-62-P